DEPARTMENT OF THE INTERIOR

Geological Survey

[GX23DJ56UFK1000]

Agency Information Collection Activities: Request for Comments on the USGS Water Use Data Acquisition

AGENCY: U. S. Geological Survey, Department of the Interior.

ACTION: Notice of information collection; request for comment.

SUMMARY: In accordance with the Paperwork Reduction Act of 1995 (PRA), the U.S. Geological Survey (USGS) is proposing a new information collection.

DATES: Interested persons are invited to submit comments on or before January 16, 2024.

ADDRESSES: Send your comments on this information collection request (ICR) by mail to Cheryl Dieter, USGS Maryland-Delaware-DC Water Science Center, 5522 Research Park Drive, Catonsville, MD 21228, or by email at cadieter@usgs.gov. Please reference `OMB Information Collection 1028—NEW USGS Water Use Data Acquisition' in the subject line of your comments.

FOR FURTHER INFORMATION CONTACT: To request additional information about this ICR, contact Cheryl Dieter by mail at Maryland-Delaware-DC Water Science Center, 5522 Research Park Drive, Catonsville, MD 21228; by email at cadieter@usgs.gov, or by telephone at 443-883-0761. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/do/PRAMain.

SUPPLEMENTARY INFORMATION: In accordance with the PRA, 44 U.S.C. 3501 et seq. and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us to withhold your PII from public review, we cannot guarantee that we will be able to do so.

Abstract: This notice identifies an information collection activity that the USGS Water Availability and Use Science Program has submitted to OMB for approval to collect information on the use of water resources in the United States. The information is used by USGS scientists to estimate water use in several categories including (but not limited to) public-supply, domestic, irrigation, thermoelectric-cooling, industrial, mining, aquaculture, and livestock applications. USGS national water-use estimates are disseminated to stakeholders and the general public on an ongoing basis and fulfill requirements of the SECURE Water Act. The information also supports regional and national water-availability studies in the United States. The USGS has produced estimates of annual water use by category aggregated at the county- and state level every five years since 1950. For 2020, models will be used to produce the estimates and they will be made at a higher temporal and spatial resolution than previous years' estimates. Model estimates are dependent on validation using the data collected nationally for specific water-use facilities. USGS water-use specialists will request reported water-use data annually from non-federal agencies. This collection also aims to request data from facilities on an ad hoc basis to acquire data for categories of use or locations where state-reported data are not sufficient for estimating water use. Respondents can provide relevant data in a variety of electronic formats, usually via websites, file sharing, or email. Information will also be gathered on the water-use data-delivery needs of USGS water-use stakeholders and other end users.

Title of Collection: USGS Water Use Data Acquisition.

OMB Control Number: 1028-NEW.

Form Number: DI-3680.

Type of Review: New collection.

Respondents/Affected Public: State and local government agencies, Individuals or households, businesses, Tribal governments.

Water-Resource Agencies

Total Estimated Number of Annual Respondents: 300.

Total Estimated Number of Annual Responses: 300.

Initial contact: 150 with completion time of 1 minute.

Data submission: 150 with completion time of 4 hours.

Total Estimated Number of Annual Burden Hours: 603 hours.

Water-Use Facilities

Estimated Number of Annual Respondents: 7,500.

Total Estimated Number of Annual Responses: 7,500.

Initial contact: 5,000 with completion time of 1 minute.

Data submission: 2,500 with completion time of 4 hours.

Total Estimated Number of Annual Burden Hours: 10,084 hours.

Individual Water Users

Total Estimated Number of Annual Respondents: 1,500.

Total Estimated Number of Annual Responses: 7,000.

Initial contact: 1,000 with completion time of 1 minute.

Data submission: 6,000 with completion time of 0.5 hours.

Total Estimated Number of Annual Burden Hours: 3,017 hours.

Data End-Users

Total Estimated Number of Annual Respondents: 300.

Total Estimated Number of Annual Responses: 300.

Initial contact: 150 with completion time of 1 minute.

Data submission: 150 with completion time of 15 minutes.

Total Estimated Number of Annual Burden Hours: 41 hours.

Totals Combining All Four Information-Collection Components

Total Estimated Number of Annual Respondents: 9,600.

Total Estimated Number of Annual Responses: 15,100.

Estimated Completion Time per Response: 1 minute-4 hours.

Total Estimated Number of Annual Burden Hours: 13,745 hours.

Respondent's Obligation: Voluntary.

Frequency of Collection: Once per year, except monthly for individual water-user reporting component.

Total Estimated Annual Nonhour Burden Cost: None.

An agency may not conduct or sponsor, nor is a person required to respond to, a collection of information unless it displays a currently valid OMB control number.

The authority for this action is the PRA.

Donald W. Cline,
U.S. Geological Survey, Associate Director for Water.

[FR Doc. 2023-25249 Filed 11-15-23; 8:45 am]

BILLING CODE P